DEPARTMENT OF TRANSPORTATION

Federal Transit Administration

Notice To Rescind Notice of Intent To Prepare an Environmental Impact Statement for Expansion of Light Rail Transit Service From Glassboro, NJ to Camden, NJ

AGENCY: Federal Transit Administration (FTA), DOT.

ACTION: Rescind Notice of Intent to prepare an environmental impact statement.

SUMMARY: The FTA in cooperation with the Delaware River Port Authority (DRPA) is issuing this notice to advise the public that the Notice of Intent (NOI) to prepare an Environmental Impact Statement (EIS) for the proposed public transportation improvement project in Camden County, New Jersey is being rescinded.

FOR FURTHER INFORMATION CONTACT: Mr. Timothy Lidiak, Community Planner, Federal Transit Administration Region III, 1835 Market Street, Suite 1910, Philadelphia, PA 19103, phone: 215-656-7084, email: timothy.lidiak@dot.gov.

SUPPLEMENTARY INFORMATION: The FTA, as lead federal agency, and DRPA published a NOI on April 19, 2010 (75 FR20421) to prepare an EIS for the expansion of light rail passenger service along an 18-mile-long corridor operating between the Borough of Glassboro in Gloucester County and the City of Camden in Camden County along, and primarily within, the existing Conrail railroad right-of-way.

The DRPA is no longer seeking federal funding from FTA, and FTA is rescinding the April 19, 2010 NOI. DRPA will fund the project through state and local sources of funding.

Comments and questions concerning the proposed action should be directed to FTA at the address provided above.

Authority: 49 U.S.C. 5323(c); 40 CFR 1501.7.

Theresa Garcia Crews,
Regional Administrator, FTA Region III.

[FR Doc. 2020-22949 Filed 10-15-20; 8:45 am]

BILLING CODE P